DEPARTMENT OF THE INTERIOR

Bureau of Safety and Environmental Enforcement

[Docket ID BSEE-2017-0004; 17XE1700DX EEEE500000 EX1SF0000.DAQ000; OMB Control Number 1014-0015]

Information Collection Activities; Unitization

AGENCY: Bureau of Safety and Environmental Enforcement, Interior.

ACTION: Notice of Information Collection; request for comment.

SUMMARY: In accordance with the Paperwork Reduction Act of 1995, the Bureau of Safety and Environmental Enforcement is proposing to renew an information collection with revisions.

DATES: Interested persons are invited to submit comments on or before October 30, 2017.

ADDRESSES: Send your comments on the information collection request (ICR) by either of the following methods listed below:

• Electronically go to http://www.regulations.gov. In the Search box, enter BSEE-2017-0004 then click search. Follow the instructions to submit public comments and view all related materials. We will post all comments.

• Email Kelly.Odom@bsee.gov, fax (703) 787-1546, or mail or hand-carry comments to the Department of the Interior; Bureau of Safety and Environmental Enforcement; Regulations and Standards Branch; ATTN: Kelly Odom; 45600 Woodland Road, Sterling, VA 20166. Please reference OMB Control Number 1014-0015 in the subject line of your comments.

FOR FURTHER INFORMATION CONTACT: To request additional information about this ICR, contact Kelly Odom, Regulations and Standards Branch, by email at Kelly.odom@bsee.gov, or by telephone at (703) 787-1775.

SUPPLEMENTARY INFORMATION: We, the Bureau of Safety and Environmental Enforcement (BSEE), in accordance with the Paperwork Reduction Act of 1995, provide the general public and other Federal agencies with an opportunity to comment on proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of BSEE; (2) Will this information be processed and used in a timely manner; (3) Is the estimate of burden accurate; (4) How might BSEE enhance the quality, utility, and clarity of the information to be collected; and (5) How might BSEE minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

An agency may not conduct or sponsor and a person is not required to respond to a collection of information unless it displays a currently valid OMB control number.

Title of Collection: 30 CFR part 250, subpart M, Unitization.

OMB Control Number: 1014-0015.

Form Number: None.

Type of Review: Revision of a currently approved collection.

Respondents/Affected Public: Potential respondents comprise Federal OCS oil, gas, and sulfur lessees/operators and holders of pipeline rights-of-way.

Estimated Reporting and Recordkeeping Hour Burden: The currently approved annual reporting burdens for this collection are 5,772 hours and $138,188 non-hour cost burdens. The following chart details the individual components and respective hour and non-hour cost burden estimates of this ICR. In calculating the burdens, we assumed that respondents perform certain requirements in the normal course of their activities. We consider these to be usual and customary and took that into account in estimating the burden.

Burden Breakdown
Citation 30 CFR 250 subpart M | Recordkeeping and reporting requirement | Hour burden | Average number annual responses | Annual burden hours
| Non-Hour Cost Burdens *
1301 | Description of requirements | Burden included in the following sections |  | 0
1301(d), (f)(3),(g)(1), (g)(2)(ii) | Request suspension of production or operations | Burden covered under Subpart A [1014-0022]. |  | 0
1302(b) | Request preliminary determination on competitive reservoir | 116 | 1 request | 116
1304(b) | Request compulsory unitization, including submitting unit agreement, unit operating agreement, initial plan of operation, obtain approval of Regional Supervisor if required, and supporting data; serving non-consenting lessees with documents | 234 | 1 request | 234
1304(d) | Request hearing on required unitization | 1 | 1 request | 1
1302(b) | Submit concurrence or objection on competitiveness with supporting evidence | 47 | 1 request | 47
1302(c), (d) | Submit joint plan of operations, supplemental plans, or a separate plan if agreement cannot be reached | 68 | 1 plan | 68
1303; 1304 | *Submit revisions or modifications to unit agreement, unit operating agreement, plan of operation, change of unit operator, etc | 15 | 41 revs/mods | 615
|  | $896 fees × 41 revisions/modifications = $36,736
1303; 1304 | *Submit initial, and revisions to, participating area | 76 | 9 submissions | 684
1304(d) | Submit statement at hearing on compulsory unitization | 5 | 1 statement | 5
1304(e) | Pay for and submit three copies of verbatim transcript of hearing | 1 | 1 submission | 1
|  | Court reporter and 3 transcript copies for 1 hearing = $500
1303 | Apply for voluntary unitization, including submitting unit agreement, unit operating agreement, initial plan of operation, obtain approval of Regional Supervisor if required, and supporting data; request for variance from model agreement and other related requirements | 500 | 8 apps/plans | 4,000
|  | $12,619 fee × 8 applications/plans = $100,952
1304(f) | Appeal final order of compulsory unitization | Exempt as defined in 5 CFR 1320.4(a)(2), (c) |  | 0
1300-1304 | General departure and alternative compliance requests not specifically covered elsewhere in subpart M regulations | 1 | 1 request | 1
Total Burden |  |  | 66 Responses | 5,772 Hours
| $138,188 Non-Hour Cost Burdens
* These requirements are specified in each Unit Agreement.

Respondent's Obligation: Most responses are mandatory, while others are required to obtain or retain benefits.

Frequency of Collection: The frequency of reporting is on occasion.

Total Estimated Annual Non-hour Burden Cost: We have identified three non-hour cost burdens associated with this information collection. Section 250.1303 requires respondents to pay filing fees when (1) applying for a voluntary unitization proposal or unit expansion ($12,619), as well as a (2) unitization revision ($896). The filing fees are required to recover the Federal Government's processing costs. Section 250.1304(d) provides an opportunity for parties notified of compulsory unitization to request a hearing; therefore, § 250.1304(e) requires the party seeking the compulsory unitization to (3) pay for the court reporter and three copies of the verbatim transcript of the hearing (approximately $500); for a total of $138,188. We have not identified any other non-hour cost burdens associated with this collection of information.

Abstract: This notice concerns the paperwork requirements of 30 CFR 250, Subpart M, Unitization, and related documents. The BSEE must approve any lessee's proposal to enter an agreement to unitize operations under two or more leases and for modifications when warranted. We use the information to ensure that operations under the proposed unit agreement will result in preventing waste, conserving natural resources, and protecting correlative rights including the government's interests.

The authorities for this action are the Outer Continental Shelf Lands Act (OCSLA, 43 U.S.C. 1334), the Federal Oil and Gas Royalty Management Act (FOGRMA, 30 U.S.C. 1751), the Independent Offices Appropriations Act (IOAA, 31 U.S.C. 9701), and the Paperwork Reduction Act of 1995 (44 U.S.C. 3501, et seq.).

Dated: July 21, 2017.
Doug Morris,
Chief, Office of Offshore Regulatory Programs.

[FR Doc. 2017-18264 Filed 8-28-17; 8:45 am]

BILLING CODE 4310-VH-P